DEPARTMENT OF AGRICULTURE

Animal and Plant Health Inspection Service

[Docket No. 00-073-1]

Pine Shoot Beetle Host Material From Canada; Availability of a Draft Environmental Assessment

AGENCY: Animal and Plant Health Inspection Service, USDA.

ACTION: Notice of availability and request for comments.

SUMMARY: We are advising the public that the Animal and Plant Health Inspection Service has prepared a draft environmental assessment concerning various alternative actions for addressing the spread of the pine shoot beetle into noninfested areas of the United States due to the importation of pine shoot beetle host material from Canada. The draft environmental assessment documents our review and analysis of the environmental impacts associated with the alternative actions under consideration. Among the alternative actions considered in the assessment is the imposition of specific regulatory requirements covering the importation of pine shoot beetle host material into the United States from Canada. We are making this draft environmental assessment available to the public for review and comment.

DATES: We invite you to comment on the draft environmental assessment. We will consider all comments that we receive by April 5, 2001.

ADDRESSES: Please send four copies of your comment (an original and three copies) to: Docket No. 00-073-1, Regulatory Analysis and Development, PPD, APHIS, Suite 3C03, 4700 River Road, Unit 118, Riverdale, MD 20737-1238.

Please state that your comment refers to Docket No. 00-073-1.

A copy of the draft environmental assessment and any comments that we receive on this docket will be available for public inspection in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Jonathan Jones, Operations Officer, Program Support, PPQ, APHIS, 4700 River Road Unit 134, Riverdale, MD 20737-1236; (301) 734-8247.

SUPPLEMENTARY INFORMATION:

Background

Pine shoot beetle, Tomicus piniperda (Linnaeus) is a pest of pine trees. Pine shoot beetle (PSB) can cause damage in weak and dying trees, where reproduction and immature stages of PSB occur, and in the new growth of healthy trees. During “maturation feeding,” young beetles tunnel into the center of pine shoots (usually of the current year's growth), causing stunted and distorted growth in host trees. PSB is also a vector of several diseases of pine trees. Adults can fly at least 1 kilometer, and infested trees and pine products are often transported long distances. These factors can result in the establishment of PSB populations far from the location of the original host tree. This plant pest damages urban ornamental trees and can cause economic losses to the timber, Christmas tree, and nursery industries.

PSB hosts include all pine species. The beetle has been found in a variety of pine species (Pinus spp.) in the United States. Scotch pine (P. sylvestris) is the preferred host of PSB. The Animal and Plant Health Inspection Service (APHIS) has determined, based on scientific data from European countries, that fir (Abies spp.), spruce (Larix spp.), and larch (Picea spp.) are not hosts of PSB.

PSB first established itself in Canada approximately 8 years ago. Areas of infestation are currently located in the Provinces of Ontario and Quebec, and are contiguous, for the most part, with PSB infested areas located in the northeastern United States. PSB populations have spread in both Ontario and Quebec in recent years despite the efforts of the Canadian Food Inspection Agency (CFIA) to implement regulatory compliance practices to control the spread of this plant pest.

Under the Plant Protection Act (Title IV, Pub. L. 106-224, 114 Stat. 438, 7 U.S.C. 7701-7772), the Secretary of Agriculture is authorized to prohibit or restrict the importation and entry into the United States of any plants and plant products, including pine forest materials and products, to prevent the introduction of plant pests or noxious weeds into the United States.

APHIS has regulated the interstate movement of PSB host material from areas of the United States that are generally infested with PSB through its domestic quarantine notices (see 7 CFR 301.50 through 301.50-10), but has not established specific regulations in its foreign quarantine notices prohibiting or restricting the importation of PSB host material into the United States from foreign countries. Rather, we have used our authority under the emergency provisions of the Federal Plant Pest Act (repealed in 2000, formerly at 7 U.S.C. 150dd), and more recently, the Plant Protection Act, as the basis for any actions we have taken on a case-by-case basis to regulate the movement of certain PSB host material from Canada in order to prevent the introduction of PSB into noninfested areas of the United States.

APHIS is investigating the possibility of implementing regulations that would impose specific requirements on the importation of PSB host material into the United States from Canada in order to prevent the spread of the PSB into noninfested areas of the United States. These new regulations, if implemented, would parallel requirements recently implemented by Canada with respect to the export of PSB host material from the United States to Canada. The reciprocal regulation of imported PSB host material by Canada and the United States would be consistent with North American Plant Protection Organization standards of preventing the introduction and spread of quarantine plant pests and fostering the preservation of plant resources in North America by coordinating joint programs of mutual interest.

To assist us in our decisionmaking, APHIS has prepared a draft environmental assessment (EA), entitled “Pine Shoot Beetle Host Material from Canada” (December 2000), that considers alternative actions and the associated environmental impacts for addressing the spread of PSB into noninfested areas of the United States. The alternative actions reviewed and analyzed include implementing reciprocal regulations on imported PSB host material from Canada, taking no action (i.e., retaining the current domestic quarantine program only), or rescinding the domestic quarantine program and not implementing reciprocal regulations on imported PSB host material from Canada.

We are making this draft EA available to the public for review and comment. We will consider all comments that we receive by the date listed under the heading DATES at the beginning of this notice.

The draft EA may be viewed on the Internet at http://www.aphis.usda.gov/ppd/es/ppq/psbcan.pdf. You may also request paper copies of the draft EA by calling or writing to the person listed under FOR FURTHER INFORMATION CONTACT. Please refer to the title of the draft EA when requesting copies. The draft EA is also available for review in our reading room (information on the location and hours of the reading room is listed under the heading ADDRESSES at the beginning of this notice).

The draft EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 28th day of February 2001.
Bobby R. Acord,
Acting Administrator, Animal and Plant Health Inspection Service.

[FR Doc. 01-5422 Filed 3-5-01; 8:45 am]

BILLING CODE 3410-34-P